NATIONAL CREDIT UNION ADMINISTRATION

Sunshine Act: Notice of Agency Meeting

TIME AND DATE: 10:00 a.m., Thursday, November 20, 2014.

PLACE: Board Room, 7th Floor, Room 7047, 1775 Duke Street (All visitors must use Diagonal Road Entrance), Alexandria, VA 22314-3428

STATUS: Open.

MATTERS TO BE CONSIDERED:

1. Quarterly Report on Corporate Stabilization Fund.

2. Board Briefing, Estimated Range of Premiums for the NCUSIF and Assessment for the Corporate Stabilization Fund.

3. 2015 Operating Budget.

4. 2015 Overhead Transfer Rate.

5. 2015 Operating Fee Assessment Scale.

RECESS: 12:00 p.m.

TIME AND DATE: 12:15 p.m., Thursday, November 20, 2014.

PLACE: Board Room, 7th Floor, Room 7047, 1775 Duke Street, Alexandria, VA 22314-3428.

STATUS: Closed.

MATTERS TO BE CONSIDERED:

1. Share Insurance Appeal. Closed pursuant to Exemption (6).

FOR FURTHER INFORMATION CONTACT: Gerard Poliquin, Secretary of the Board, Telephone: 703-518-6304.

Gerard Poliquin,
Secretary of the Board.

[FR Doc. 2014-27510 Filed 11-17-14; 4:15 pm]

BILLING CODE 7535-01-P